DEPARTMENT OF COMMERCE

National Oceanic and Atmospheric Administration

[I.D.011701C]

Endangered Species; Permits

AGENCY: National Marine Fisheries Service (NMFS), National Oceanic and Atmospheric Administration (NOAA), Commerce.

ACTION: Issuance of permit 1267.

SUMMARY: Notice is hereby given that NMFS has issued a permit, on December 20, 2000, to the Plum Creek Timber Company (Plum Creek Timber Company, Inc., Plum Creek Timberlands, L.P., Plum Creek Timber I, L.L.C., Plum Creek Marketing, Inc., Plum Creek Land Company, Plum Creek Northwest Lumber, Inc., Plum Creek Northwest Plywood, Inc., and Plum Creek MDF, Inc.), hereafter referred to as A “Plum Creek,” that authorizes incidental take of Endangered Species Act-listed anadromous fish, subject to certain conditions set forth therein.

ADDRESSES: The applications and related documents are available for review in the following office, by appointment:

Snake River Habitat Branch Office, 10215 W Emerald, Suite 180, Boise, Idaho 83704.

FOR FURTHER INFORMATION CONTACT: Bob Ries (208-882-6148).

SUPPLEMENTARY INFORMATION: The permit was issued under the authority of section 10(a)(1)(B) of the Endangered Species Act of 1973 (ESA) (16 U.S.C. 1531-1543) and NMFS regulations governing ESA-listed fish and wildlife permits (50 CFR parts 222-227).

The permit covers activities associated with manufacturing of forest products and commercial forest management, including timber harvest, tree planting, stand maintenance, fire suppression, prescribed burning, cattle grazing, sales of gravel and landscaping stones, habitat restoration, scientific surveys and studies, special forest use permits, and manufacturing plants in Idaho, Washington, and Montana, as described in the Plum Creek Native Fish Habitat Conservation Plan and associated Environmental Impact Statement, and Record of Decision. The Record of Decision was signed on November 20, 2000.

Notice was published on December 17, 1999 (64 FR 70695), that an application had been filed by Plum Creek for an incidental take permit. Permit 1267 was issued to the Plum Creek on November 20, 2000. Permit 1267 authorizes Plum Creek incidental take of threatened Columbia River Chum Salmon ESU (Oncorhynchus keta), Lower Columbia River chinook salmon ESU (O. tschawytscha), Lower Columbia River steelhead ESU (O. mykiss), Mid-Columbia River steelhead ESU (O. mykiss), Snake River steelhead ESU (O. mykiss), Snake River spring/summer chinook ESU (O. tschawytscha), and Snake River fall chinook salmon ESU (O. tschawytscha). In addition, Permit 1267 would authorize incidental take of the following unlisted species if they become listed prior to expiration of the permit: Upper Columbia River summer/fall chinook salmon ESU (O. tschawytscha), Mid-Columbia River spring chinook salmon ESU (O. tschawytscha), and Lower Columbia River/Southwest Washington coho salmon ESU (O. kisutch). Permit 1267 expires on November 20, 2030.

Issuance of the permit was based on a finding that Plum Creek had met the permit issuance criteria of 50 CFR 222.22(c). The permit will take effect for listed covered species on the effective date of a rule under Section 4(d) of the ESA prohibiting take of the species. For unlisted covered species, the permit will take effect upon the listing of a species as endangered, and for a species listed as threatened, on the effective date of a rule under section 4(d) of the ESA prohibiting take of the species.

Dated: January 22, 2001.
Margaret Lorenz,
Acting Chief, Endangered Species Division, Office of Protected Resources, National Marine Fisheries Service.

[FR Doc. 01-2318 Filed 1-24-01; 8:45 am]

BILLING CODE 3510-22-S